DEPARTMENT OF TRANSPORTATION

Research and Special Programs Administration

Office of Hazardous Materials Safety; Notice of Applications for Modification of Exemption

AGENCY: Research and Special Programs Administration, DOT.

ACTION: List of applications for modification of exemptions.

SUMMARY: In accordance with the procedures governing the application for, and the processing of, exemptions from the Department of Transportation's Hazardous Materials Regulations (49 CFR Part 107, Subpart B), notice is hereby given that the Office of Hazardous Materials Safety has received the applications described herein. This notice is abbreviated to expedite docketing and public notice. Because the sections affected, modes of transportation, and the nature of application have been shown in earlier Federal Register publications, they are not repeated here. Requests for modifications of exemptions (e.g. to provide for additional hazardous materials, packaging design changes, additional mode of transportation, etc.) are described in footnotes to the application number. Application numbers with the suffix “M” denote a modification request. These applications have been separated from the new applications for exemptions to facilitate processing.

DATES: Comments must be received on or before October 5, 2000.

ADDRESS COMMENTS TO: Record Center, Research and Special Programs Administration, U.S. Department of Transportation, Washington, DC 20590.

Comments should refer to the application number and be submitted in triplicate. If confirmation of receipt of comments is desired, include a self-addressed stamped postcard showing the exemption number.

FOR FURTHER INFORMATION CONTACT: Copies of the applications are available for inspection in the Records Center, Nassif Building, 400 7th Street SW, Washington, DC or at http://dms.dot.gov.

This notice of receipt of applications for modification of exemptions is published in accordance with Part 107 of the Federal hazardous materials transportation law (49 U.S.C. 5117(b); 49 CFR 1.53(b)).

Issued in Washington, DC, on September 14, 2000.
J. Suzanne Hedgepeth,
Director, Office of Hazardous Materials Exemptions and Approvals.

Application No. | Docket No. | Applicant | Modification of exemption
8013-M |  | Praxair, Inc., Danbury, CT ¹ | 8013
10501-M |  | Semi-Bulk Systems, Inc., Fenton, MO ² | 10501
10985-M |  | Georgia-Pacific Corporation, Atlanta, GA ³ | 10985
11749-M |  | Union Tank Car Company, E. Chicago, IN ⁴ | 11749
12499-M | RSPA-2000-7650 | M & M Service Company, Carlinville, IL ⁵ | 12499
12504-M | RSPA-2000-7652 | Radian International, Research Triangle Park, NC ⁶ | 12504
¹ To modify the exemption to allow for the use of DOT 4E240 specification cylinders having a capacity up to 2,642 cubic inches to be used exclusively for sampling purposes.
² To modify the exemption to update reference language concerning Flexible Intermediate Bulk Container reuse provisions and repair procedures.
³ To modify the exemption to authorize the transportation of Class 8 materials in tank cars which remain standing with unloading connections attached when no product is being transferred.
⁴ To modify the exemption to change the availability/retention requirements of data documents used for alternative testing methods of DOT specification tank cars.
⁵ To reissue the exemption originally issued on an emergency basis for the transportation of liquefied petroleum gas in a non-DOT specification cargo tank.
⁶ To reissue the exemption originally issued on an emergency basis authorizing the use of temperature controlled equipment for the transportation of Class 3 and Division 2.1 materials.

[FR Doc. 00-24182 Filed 9-19-00; 8:45 am]

BILLING CODE 4910-60-M